NATIONAL CREDIT UNION ADMINISTRATION

Sunshine Act; Notice of Agency Meeting

TIME AND DATE: 10 a.m., Thursday, December 18, 2008.

PLACE: Board Room, 7th Floor, Room 7047, 1775 Duke Street, Alexandria, VA 22314-3428.

STATUS: Open.

Matters To Be Considered: 1. Final Rule—Parts 712 and 741 of NCUA Rules and Regulations, Credit Union Service Organizations.

2. Final Rule—Part 706 of NCUA Rules and Regulations, Unfair or Deceptive Acts or Practices.

3. Insurance Fund Report.

FOR FURTHER INFORMATION CONTACT: Mary Rupp, Secretary of the Board, Telephone: 703-518-6304.

Mary Rupp,
Secretary of the Board.

[FR Doc. E8-29778 Filed 12-12-08; 11:15 am]

BILLING CODE 7535-01-P